OVERSEAS PRIVATE INVESTMENT CORPORATION

Sunshine Act—Public Hearing November 24, 2010

OPIC's Sunshine Act notice of its Public Hearing in Conjunction with each Board meeting was published in the Federal Register (Volume 75, Number 210, Page 67145) on November 1, 2010. No requests were received to provide testimony or submit written statements for the record; therefore, OPIC's public hearing scheduled for 2 PM, November 24, 2010 in conjunction with OPIC's December 9, 2010 Board of Directors meeting has been cancelled.

CONTACT PERSON FOR INFORMATION: Information on the hearing cancellation may be obtained from Connie M. Downs at (202) 336-8438, via facsimile at (202) 218-0136, or via e-mail at Connie.Downs@opic.gov.

November 19, 2010.
Connie M. Downs,
OPIC Corporate Secretary.

[FR Doc. 2010-29580 Filed 11-19-10; 11:15 am]

BILLING CODE 3210-01-P